DEPARTMENT OF HEALTH AND HUMAN SERVICES

Agency for Toxic Substances and Disease Registry

[30Day-09-0039]

Agency Forms Undergoing Paperwork Reduction Act Review

The Agency for Toxic Substances and Disease Registry (ATSDR) publishes a list of information collection requests under review by the Office of Management and Budget (OMB) in compliance with the Paperwork Reduction Act (44 U.S.C. Chapter 35). To request a copy of these requests, call the CDC/ATSDR Reports Clearance Officer at (404) 639-5960 or send an e-mail to omb@cdc.gov. Send written comments to the CDC Desk Officer, Office of Management and Budget, Washington, DC or by fax to (202)395-5806. Written comments should be received within 30 days of this notice.

Proposed Project

Tremolite Asbestos Registry (TAR)—Extension—Agency for Toxic Substances and Disease Registry (ATSDR).

Background and Brief Description

The Agency for Toxic Substances and Disease Registry (ATSDR) requests an extension of data collection and procedures for the previously approved Tremolite Asbestos Registry (TAR) project for an additional three years. ATSDR is mandated pursuant to the 1980 Comprehensive Environmental Response Compensation and Liability Act (CERCLA) and its 1986 Amendments, the Superfund Amendments and Re-authorization Act (SARA), to establish and maintain national registries of persons who have been exposed to hazardous substances in the environment and national registries of persons with illnesses or health problems resulting from such exposure. In 2003, ATSDR created the Tremolite Asbestos Registry (TAR) as a result of this legislation in an effort to provide scientific information about potential adverse health effects people develop as a result of exposure to the amphibole fibers that are found in vermiculite mined from Libby, Montana. The purpose of the TAR is to improve communication with people at risk for developing asbestos-related diseases subsequent to exposure to Libby amphibole and to support research activities related to TAR registrants. The TAR is currently composed of information about former vermiculite workers, the people that lived with them during their tenure as vermiculite workers (i.e., the workers' household contacts), and people who participated in screening programs funded by ATSDR conducted in Libby and other sites that received Libby vermiculite. TAR participants are interviewed to collect information on exposure pathways, tobacco use, and health outcomes. The standardized TAR survey is administered using a computer-assisted personal interview instrument.

The number of annual respondents will vary little from year to year. We anticipate that 500 persons per year could be added during each of the next 3 years in addition to the 4,500 registrants already enrolled. These newly enrolled respondents will be interviewed using the Baseline interview instrument. Optimally, one third of the follow-up interviews will be conducted each year for the next three years using the Follow-up interview instrument. The maximum burden for the baseline survey is 30 minutes and 20 minutes for the follow-up survey.

There is no cost to registrants. The total estimated annualized burden hours are 750.

Estimated Annualized Burden Hours
Type of respondents | Data collection instruments | Number of respondents | Number responses per respondent | Average burden per response (in hours)
Persons exposed | Baseline TAR Questionnaire | 500 | 1 | 30/60
| Follow-up TAR questionnaire | 1,500 | 1 | 20/60

Dated: September 3, 2009.
Maryam I. Daneshvar,
Acting Reports Clearance Officer, Centers for Disease Control and Prevention.

[FR Doc. E9-21915 Filed 9-10-09; 8:45 am]

BILLING CODE 4163-18-P